DEPARTMENT OF LABOR

Employment and Training Administration

[TA-W-54,796]

Venture Industries, Lancaster Ohio Plant, Lancaster, OH; Notice of Negative Determination Regarding Application for Reconsideration

By application dated July 19, 2004, a petitioner requested administrative reconsideration of the Department's negative determination regarding the eligibility for workers of Venture Industries to apply for trade adjustment assistance. The denial notice applicable to workers of the subject firm located Lancaster, Ohio, was signed on June 25, 2004, and was published in the Federal Register on August 3, 2004 (69 FR 46574).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

In the request for reconsideration of the petition denial, the petitioner claims that worker separations were “due to the circumstances of the Venture Pegaform plant in Germany being in financial trouble, profits from the American plants were used to help get this facility back to where it could turn a profit, therefore leaving the American Venture Plants in financial trouble.” The petitioner adds that the money used for the Venture Pegaform plant in Germany could have kept the Lancaster, Ohio plant open.

In order for the workers of the subject firm to be certified eligible to apply for trade adjustment assistance, the worker group eligibility requirements of section 222 of the Trade Act of 1974, as amended, must be met.

(1) A significant number or proportion of the workers in such workers' firm, or an appropriate subdivision of the firm, have become totally or partially separated, or are threatened to become totally or partially separated; and

(2)(A)(i) The sales or production, or both, of such firm or subdivision have decreased absolutely;

(ii) Imports of articles like or directly competitive with articles produced by such firm or subdivision have increased; and

(iii) The increase in imports described in clause (ii) contributed importantly to such workers' separation or threat of separation and to the decline in the sales or production of such firm or subdivision; or

(B)(i) There has been a shift in production by such workers' firm or subdivision to a foreign country of articles like or directly competitive with articles which are produced by such firm or subdivision; and

(ii)(I) The country to which the workers' firm has shifted production of the articles is a party to a free trade agreement with the United States;

(II) The country to which the workers' firm has shifted production of the articles is a beneficiary country under the Andean Trade Preference Act, African Growth and Opportunity Act, or the Caribbean Basin Economic Recovery Act; or

(III) There has been or is likely to be an increase in imports of articles that are like or directly competitive with articles which are or were produced by such firm or subdivision.

The worker group eligibility requirements described above does not contain a provision for a shift of profits from a U.S. firm to a firm in a foreign country.

The workers of Venture Industries, Lancaster Ohio Plant, Lancaster, Ohio, produced sheet/fiberglass molding compound for exterior automotive parts. The Department's initial investigation determined that during the relevant period (from 2002 through April 2004) there were no imports by the firm or its customers of like or directly competitive products. Furthermore, the subject firm did not shift production of sheet/fiberglass molding compound from the Lancaster, Ohio plant to a foreign country.

Conclusion

After review of the application and investigative findings, I conclude that there has been no error or misinterpretation of the law or of the facts which would justify reconsideration of the Department of Labor's prior decision. Accordingly, the application is denied.

Signed in Washington, DC, this 22nd day of December, 2004.
Linda G. Poole,
Certifying Officer, Division of Trade Adjustment Assistance.

[FR Doc. E5-698 Filed 2-22-05; 8:45 am]

BILLING CODE 4510-30-P